DEPARTMENT OF HOUSING AND URBAN DEVELOPMENT

[Docket No. FR-7092-N 26; OMB Control No.: 2506-0145]

30-Day Notice of Proposed Information Collection: Data Collection and Reporting for HUD's Homeless Assistance Programs—Annual Performance Report and System Performance Report

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: October 16, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna P. Guido, Department PRA Compliance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on October 15, 2024 at 89 FR 83035.

A. Overview of Information Collection

Title of Information Collection: Data Collection and Reporting for HUD's Homeless Assistance Programs—Annual Performance Report and System Performance Report.

OMB Approval Number: 2506-0145.

Type of Request: Reinstatement of a currently approved collection.

Form Number: N/A.

Description of the need for the information and proposed use: This request is for clearance of data collection and reporting to enable the U.S. Department of Housing and Urban Development (HUD) Office of Community Planning and Development (CPD) to continue to manage and assess the effectiveness of its homeless assistance projects on an annual basis. Per 24 CFR 578.103(e), HUD requires recipients and subrecipients that receive funding through the CoC Program (authorized by the McKinney-Vento Homeless Assistance Act, as amended) to prepare and submit annual project-level reports on performance and spending.

This request will also enable the HUD CPD Office to initiate a process to assess the effectiveness of local coordinated systems of homeless assistance. The McKinney-Vento Homeless Assistance Act, as amended, requires communities to measure their performance as a coordinated system, in addition to analyzing performance of specific projects and project types. Section 427 of the Act established a set of selection criteria for HUD to use in awarding CoC Program funding. These selection criteria require CoCs to report to HUD their system-level performance. The intent of these selection criteria are to encourage CoCs, in coordination with Emergency Solutions Grant (ESG) Program recipients and all other homeless assistance stakeholders in the community, to regularly measure their progress in meeting the needs of people experiencing homelessness in their community and to report this progress to HUD. This request is for HUD to collect system-level performance measure data from CoCs on an annual basis, as described in Appendix B of this document.

The project APR and system-level performance measures both rely on a primary data source in each CoC—a local Homeless Management Information System (HMIS). An HMIS is an electronic data collection system that stores project-level and person-level information about homeless persons who access a community's homeless service system. Over the past two decades, HUD has supported the development of local HMIS by funding their development and implementation, by providing technical assistance, and by developing national data standards that enable the collection of standardized information on the characteristics, service patterns and service needs of homeless persons within a jurisdiction and across jurisdictions. These standards are described in HUD's HMIS Data Standards.

In addition to a CoC's HMIS data, the system-level performance measures will also rely on data collected by CoCs as part of their Point-in-Time (PIT) count efforts. CoCs are required by HUD to complete a sheltered PIT count of all homeless persons who are sheltered in emergency shelter, transitional housing, and Safe Havens and a count of unsheltered persons on a single night in January at least once every other year. HUD incentivizes annual participation in the sheltered and unsheltered PIT count through its annual CoC Program Competition. HUD releases a Notice which outlines its data collection guidance for the PIT count and the Housing Inventory Count (HIC), which is an annual point-in-time inventory of projects within a CoC that provide beds and units dedicated to serve persons who are homeless. jurisdictions. These standards are described in HUD's HMIS Data Standards.

Exhibit A-1—Estimated Annualized Burden Hours and Cost for Annual Performance Reports
Information collection | Number of respondents | Frequency of response | Responses per annum | Burden hour per response | Annual burden hours | Hourly cost per response | Annual cost
Annual Performance Report (CoC Program)—Non-profit Recipients | 3,550.00 | 1 | 3,550.00 | 4 | 14,200.00 | $48.03 | 682,026.00
Quarterly Performance Report (YHDP)—Non-profit Recipients | 200.00 | 4 | 800.00 | 5 | 4,000.00 | 48.03 | 192,120.00
Annual Performance Report (YHDP)—Non-profit Recipients | 200.00 | 1 | 200.00 | 5 | 1,000.00 | 48.03 | 48,030.00
Performance Report (Special CoC NOFO Grants that report quarterly)—Non-profit Recipients | 110.00 | 4 | 440.00 | 4 | 1,760.00 | 48.03 | 84,532.80
Performance Report (Special CoC NOFO Grants that report annually)—Non-profit Recipients | 28.00 | 1 | 28.00 | 4 | 112.00 | 48.03 | 5,379.36
Annual Performance Report (CoC Builds NOFO)—Non-profit Recipients | 13.00 | 1 | 13.00 | 4 | 52.00 | 48.03 | 2,497.56
Annual Performance Report (CoC Program)—State and Local Recipients | 3,550.00 | 1 | 3,550.00 | 4 | 14,200.00 | 48.03 | 682,026.00
Quarterly Performance Report (YHDP)—State and Local Recipients | 200.00 | 4 | 800.00 | 5 | 4,000.00 | 48.03 | 192,120.00
Annual Performance Report (YHDP)—State and Local Recipients | 200.00 | 1 | 200.00 | 5 | 1,000.00 | 48.03 | 48,030.00
Performance Report (Special CoC NOFO Grants that report quarterly)—State and Local Recipients | 110.00 | 4 | 440.00 | 4 | 1,760.00 | 48.03 | 84,532.80
Performance Report (Special CoC NOFO Grants that report annually)—State and Local Recipients | 28.00 | 1 | 28.00 | 4 | 112.00 | 48.03 | 5,379.36
Annual Performance Report (CoC Builds NOFO)—State and Local Recipients | 12.00 | 1 | 12.00 | 4 | 48.00 | 48.03 | 2,305.44
Total | 8,201.00 |  | 10,061.00 |  | 42,244.00 |  | 2,028,979.32
Hourly wage rates are based on the 2024 Occupational Employment and Wages published by the Department of Labor (8/21/2024).
The median hourly wage rates in Exhibit A-2 represent the average of “Business Operations Specialists, All Other” ($44.41/hr) and “Database Administrators” ($51.65), assuming an equal proportion of hours required to complete the Performance Report per occupational type.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
PRA Department Compliance Officer, Office of Policy Development and Research, Chief Data Officer.

[FR Doc. 2025-17834 Filed 9-15-25; 8:45 am]

BILLING CODE 4210-67-P